DEPARTMENT OF THE INTERIOR

Office of the Secretary

[Docket No. ONRR-2012-0003, DS63600000 DR2000000.PMN000 189D0102R2]

Royalty Policy Committee; Public Meeting

AGENCY: Office of Natural Resources Revenue, Interior.

ACTION: Notice.

SUMMARY: This notice announces the second meeting of the Royalty Policy Committee (Committee). This meeting is open to the public.

DATES: The Committee meeting will be held on Wednesday, February 28, 2018, in Houston, TX, from 9:00 a.m. to 5:00 p.m. Central Time.

ADDRESSES: The Committee meeting will be held at the Hyatt Regency Hotel North Houston located at 425 North Sam Houston Parkway East, Houston, Texas 77060. Members of the public may attend in person or view documents and presentations under discussion via WebEx at https://onrr.webex.com/onrr/j.php?MTID=m298215b8534d67e011ccd6e7397a7331 and listen to the proceedings at telephone number 1-888-455-2910 or International Toll number 210-839-8953 (passcode: 7741096).

FOR FURTHER INFORMATION CONTACT: Mr. Chris Mentasti, Office of Natural Resources Revenue at (202) 513-0614 or email to rpc@ios.doi.gov.

SUPPLEMENTARY INFORMATION: The U.S. Department of the Interior established the Committee on April 21, 2017, under the authority of the Secretary of the Interior and regulated by the Federal Advisory Committee Act. The purpose of the Committee is to ensure that the public receives the full value of resources produced from Federal lands. The duties of the Committee are solely advisory in nature. More information about the Committee, including its charter, is available at www.doi.gov/rpc.

Meeting Agenda: At the February meeting, the Committee will receive reports and recommendations from the three subcommittees, and may vote to make recommendations to the Secretary of the Interior. The final agenda and meeting materials will be posted on the Committee website at www.doi.gov/rpc. All Committee meetings are open to the public.

Whenever possible, we encourage those participating by telephone to gather in conference rooms in order to share teleconference lines. Please plan to dial into the meeting and/or log into WebEx at least 10-15 minutes prior to the scheduled start time in order to avoid possible technical difficulties. We will accommodate individuals with special needs whenever possible. If you require special assistance (such as an interpreter for the hearing impaired), please notify Interior staff in advance of the meeting at 202-513-0614 or email to rpc@ios.doi.gov.

We will post the minutes from these proceedings on the Committee website at www.doi.gov/rpc and they will also be available for public inspection and copying at our office at the Stewart Lee Udall Department of the Interior Building in Washington, DC, by contacting Interior staff via email to rpc@ios.doi.gov or via telephone at 202-513-0614.

Members of the public may choose to make a public comment during the designated time for public comments. Members of the public may also choose to submit written comments by mailing them to the Office of Natural Resources Revenue, Attention: RPC, 1849 C Street NW, MS 5134, Washington, DC 20240. You also can email your written comments to rpc@ios.doi.gov. Comments that you submit in response to this notice are a matter of public record.

Public Disclosure of Comments: Before including your address, phone number, email address, or other personal identifying information in your comment, you should be aware that your entire comment—including your personal identifying information—may be made publicly available at any time. While you may ask us in your comment to withhold your personal identifying information from public review, we cannot guarantee that we will be able to do so.

Authority: 5 U.S.C. Appendix 2.

Vincent DeVito,
Counselor to the Secretary for Energy Policy.

[FR Doc. 2018-02939 Filed 2-13-18; 8:45 am]

BILLING CODE 4335-30-P